FEDERAL MARITIME COMMISSION

[Docket No. 16-16]

MAVL Capital, Inc., IAM & AL Group Inc., and Maxim Ostrovskiy V. Marine Transport Logistics, Inc. and Dimitry Alper: Notice of Filing of Complaint and Assignment

Notice is given that a Complaint has been filed with the Federal Maritime Commission (Commission) by MAVL Capital, Inc. (“MAVL”), IAM & AL GROUP INC. (“IAM”), and Maxim Ostrovskiy, hereinafter “Complainants,” against Marine Transport Logistics, Inc. (“MTL”) and Dimitry Alper, hereinafter “Respondents.” Complainants allege that Respondents are a non-vessel-operating common carrier (“NVOCC”) licensed by the Commission and its director of operations, “engaged in the business of exporting used cars, motorcycles, and other cargo . . . from the United States to ports abroad.” Complainants allege that they had a business relationship with Respondents, having hired Respondents to ship Complainants' vehicles.

Complainants allege that Respondents violated provisions of the Shipping Act of 1984, including 46 U.S.C. 41102, 41101 and 46 CFR part 515, by:

“i. Failing to establish, observe, and enforce just and reasonable regulations and practices relating to or connected with receiving, handling, storing, or delivering property;

ii. Unreasonably refusing to deal or negotiate;

iii. Retaliating against Complainants because the Complainants had patronized another carrier;

iv. Knowingly misdelivering Complainants' cargo; and

v. Converting Complainants' cargo under the false premise of having exercised a maritime lien.”

Complainants allege damages “in excess of $180,000” and request the following relief:

“(1) Respondents be required to answer the charges herein; (2) that after due hearing, an order be made commanding said respondent to pay to Complainants by way of reparations for the unlawful conduct hereinabove described, the sums described herein, with interest and attorney's fees, costs and expenses, or such other sum as the Commission may determine to be proper as an award of reparation; (3) that the Commission issue an Order holding that the respondents Dimitry Alper individually, and Marine Transport Logistics, Inc. violated the Shipping Act of 1984; and (4) that the Commission issue such other and further order or orders as the Commission determines to be just and proper.”

The full text of the complaint can be found in the Commission's Electronic Reading Room at www.fmc.gov/16-16.

This proceeding has been assigned to the Office of Administrative Law Judges. The initial decision of the presiding officer in this proceeding shall be issued by August 11, 2017 and the final decision of the Commission shall be issued by February 26, 2018.

Rachel E. Dickon,
Assistant Secretary.

[FR Doc. 2016-19653 Filed 8-16-16; 8:45 am]

BILLING CODE 6731-AA-P